DEPARTMENT OF HEALTH AND HUMAN SERVICES

Administration for Children and Families

Proposed Information Collection Activity; The Understanding and Expanding the Reach of Home Visiting (HV-REACH) Project (New Collection)

AGENCY: Office of Planning, Research, and Evaluation, Administration for Children and Families, U.S. Department of Health and Human Services.

ACTION: Request for public comments.

SUMMARY: As part of the Understanding and Expanding the Reach of Home Visiting (HV-REACH) project, the Administration for Children and Families (ACF) within the U.S. Department of Health and Human Services is proposing to collect qualitative data to understand the features of centralized, coordinated, or collaborative intake systems used by seven purposively selected sites that refer families to early childhood home visiting (ECHV) programs.

DATES: Comments due September 9, 2024. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The HV-REACH project is proposing to conduct seven qualitative case studies to provide an in-depth understanding of centralized intake systems, including how centralized intake systems reach potentially eligible families, and how staff and families think centralized intake systems support and expand the recruitment and enrollment of families in ECHV programs.

The goals of the study are to understand (1) the features, strengths, and challenges of centralized intake systems that refer to ECHV programs; (2) how centralized intake systems support outreach to and enrollment of families in ECHV programs; (3) enrolled families' experiences with centralized intake systems.

We will conduct virtual or in person site visits in seven sites, where a site is defined as including a centralized intake organization(s) and one or two associated home visiting programs. We will collect documentation related to:

• outreach, enrollment, screening, and referrals processes and pathways, and data about the defining characteristics of centralized intake systems;

• local contexts and community needs;

• communication processes and feedback loops with families and programs;

• successes and challenges of the system and opportunities for improvement or technical assistance;

• home visiting program staff and family perceptions of centralized intake;

• implementation of centralized intake;

• staff and family experiences with outreach and enrollment processes using centralized intake; and

• staff and family background characteristics.

Findings will highlight opportunities for program improvement efforts, technical assistance, or changes to centralized intake system processes. We will disseminate findings in a report, research briefs, and presentations or briefings.

Respondents: Centralized intake administrators and other staff responsible for overseeing outreach and enrollment; home visiting program directors and other staff responsible for overseeing outreach and enrollment; home visitors and other staff responsible for conducting outreach and enrollment; and families enrolled in home-visiting programs.

Annual Burden Estimates
Instrument | Number of respondents (total over request period) | Number of responses per respondent (total over request period) | Average burden per response (in hours) | Total/annual burden (in hours)
Centralized Intake Administrator Screening | ¹ 9 | 1 | 0.33 | 3
On site coordination ¹ | 14 | 1 | 4.0 | 56
Centralized Intake Administrator and Other Staff Interview Protocol | 42 | 1 | 1.5 | 63
Document Review Request | 21 | 1 | 0.25 | 5
Home visiting program director and Other Staff Interview Protocol | 28 | 1 | 1.0 | 28
Home visitor and Other Staff Interview Protocol | 42 | 1 | 1.0 | 42
Family interview protocol | 42 | 1 | 1.0 | 42
Participant characteristics form | 114 | 1 | 0.08 | 9
Total Annual Burden |  |  |  | 248
¹ There is no instrument associated with this activity, which refers to the time spent by the on-site coordinator (nominated by the home visiting program director) to help the research team coordinate data collection activities.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act, title V, section 511 (42 U.S.C. 711), as extended by the Consolidated Appropriations Act of 2023 (Pub. L. 117-328) (fiscal years 2023-2027).

Mary C. Jones,
ACF/OPRE Certifying Officer.

[FR Doc. 2024-14949 Filed 7-8-24; 8:45 am]

BILLING CODE 41842-77-P